DEPARTMENT OF TRANSPORTATION

Federal Highway Administration

[FHWA Docket no. FHWA-2016-0024]

Project Management Plan Guidance

AGENCY: Federal Highway Administration (FHWA), DOT.

ACTION: Notice; request for comments.

SUMMARY: This notice requests comments on draft Project Management Plan Guidance outlining the purpose and contents of Project Management Plans, when such plans are required, and the preferred form and procedure for submission of these Project Management Plans to FHWA. The proposed Project Management Plan Guidance clarifies prior guidance on the Project Management Plan process, including when to prepare plan updates.

DATES: Comments must be received on or before December 7, 2016.

ADDRESSES: To ensure that you do not duplicate your docket submissions, please submit all comments by only one of the following means:

• Federal eRulemaking Portal: Go to http://www.regulations.gov and follow the online instructions for submitting comments.

• Mail: Docket Management Facility, U.S. Department of Transportation, 1200 New Jersey Ave. SE., W12-140, Washington, DC 20590-0001.

• Hand Delivery: West Building Ground Floor, Room W12-140, 1200 New Jersey Ave. SE., between 9 a.m. and 5 p.m., Monday through Friday, except Federal holidays. The telephone number is (202) 366-9329.

• Instructions: You must include the agency name and docket number at the beginning of your comments. All comments received will be posted without change to http://www.regulations.gov, including any personal information provided.

FOR FURTHER INFORMATION CONTACT: For questions about this notice contact Mr. James Sinnette, FHWA Office of Infrastructure, (202) 366-1561, Federal Highway Administration, 1200 New Jersey Ave. SE., Washington, DC 20590, or via email at james.sinnette@dot.gov. For legal questions, please contact Ms. Jennifer Mayo, Assistant Chief Counsel for Program Legal Services, FHWA Office of the Chief Counsel, (202) 366-1523, Federal Highway Administration, 1200 New Jersey Ave. SE., Washington, DC 20590-0001, or via email at jennifer.mayo@dot.gov. Business hours for the FHWA are from 8:00 a.m. to 4:30 p.m., e.t., Monday through Friday, except Federal holidays.

SUPPLEMENTARY INFORMATION:

Electronic Access and Filing

A copy of the proposed Project Management Plan Guidance is available for download and public inspection under the docket number noted above at the Federal eRulemaking portal at: http://www.regulations.gov. You may submit or retrieve comments online through the Federal eRulemaking portal at: http://www.regulations.gov. The Web site is available 24 hours each day, 365 days each year. Electronic submission and retrieval help and guidelines are available under the help section of the Web site.

An electronic copy of this document may also be downloaded from Office of the Federal Register's home page at: http://www.archives.gov/federal_register and the Government Publishing Office's Web page at: https://www.gpo.gov/fdsys/. Late comments will be considered to the extent practicable.

Background

Major projects are defined in 23 U.S.C. 106(h) as projects receiving Federal financial assistance with an estimated total cost of $500,000,000, or other projects as may be identified by the Secretary. Major projects are typically large, complex projects designed to address major highway needs and require the investment of significant financial resources. The preparation of a Project Management Plan, as required by 23 U.S.C. 106(h), ensures successful project delivery and the maintenance of public trust, support, and confidence throughout the life of the project. Project Management Plans clearly define the responsibilities of the agency leadership and management team. Further, such plans document the procedures and processes to provide timely information to project decision makers.

When finalized, the proposed Project Management Plan Guidance will replace the existing January 2009 Project Management Plan Guidance. Current guidance is over 7 years old and in need of clarification. This new, proposed guidance is less prescriptive, in light of an increased understanding of Project Management Plans by FHWA and Project Managers. Further, a recent DOT Office of Inspector General audit expressed the need for more clarity in the guidance on when Project Management Plan updates should be prepared.¹ Finally, while current guidance includes best practices for managing major projects, these practices will not be included in the new guidance. Rather, best management practices will be developed as a separate resource to be shared with project sponsors and FHWA staff.

¹ FHWA Met Basic Requirements but can Strengthen Guidance and Controls for Financial and Project Management Plans, FHWA, Report No. ST-2015-018 (Jan. 2015), available at https://www.oig.dot.gov/library-item/32336.

Comments on the proposed Project Management Plan Guidance are welcome from any interested party, including Federal, State, and local agencies; industry groups; and the general public. A copy of the proposed Project Management Plan Guidance is available for download and public inspection under the docket number noted above at the Federal eRulemaking portal at: http://www.regulations.gov. The FHWA requests that commenters cite the page number of the Guidance for which each specific comment to the docket is concerned, to help make the FHWA's docket comment review process more efficient. The FHWA will consider all comments received during the comment period prior to finalizing the Project Management Plan Guidance.

Authority: 23 U.S.C. 106(h); 49 CFR 1.85.

Issued on: October 31, 2016.
Gregory G. Nadeau,
FHWA Administrator.

[FR Doc. 2016-26815 Filed 11-4-16; 8:45 am]

BILLING CODE 4910-22-P